DEPARTMENT OF AGRICULTURE

Office of Partnerships and Public Engagement

USDA Generic Clearance for Fellowships, Scholarships, Internships, and Training

AGENCY: Office of Partnerships and Public Engagement (OPPE).

ACTION: Notice and request for comments.

SUMMARY: In accordance with the Paperwork Reduction Act of 1995, this notice announces OPPE's intention to request a new, generic information collection.

DATES: Comments on this notice must be received within 60 days of publication in the Federal Register to be assured of consideration.

ADDRESSES: OPPE invites interested persons to submit comments on this notice. Comments may be submitted by one of the following methods:

• Electronic Submission of Comments: Submit comments identified by Docket ID: USDA-xxxx-xxxx, via the Federal eRulemaking Portal.

• Submission of Comments by Mail, Hand Delivery, or Courier: U.S. Department of Agriculture, Office of Partnerships and Public Engagement, Docket Clerk, 1400 Independence Ave. SW, Mailstop 0601, Washington, DC 20250-3700.

All items submitted by mail or electronic mail must include the Agency name and docket number Office of Partnerships and Public Engagement and USDA-xxxx-xxxx. Comments received in response to this docket will be made available for public inspection and posted without change, including any personal information, to: http://www.regulations.gov.

For access to background documents or comments received, go to the Office of Partnerships and Public Engagement at 1400 Independence Ave. SW, Washington, DC 20250-3700, Mail Stop 0601 between 8:00 a.m. and 4:30 p.m., Monday through Friday.

FOR FURTHER INFORMATION CONTACT: Kim Okahara, Performance Improvement Officer, at kim.okahara@usda.gov or U.S. Department of Agriculture, Office of Partnerships and Public Engagement, Attention: Kim Okahara, 1400 Independence Ave. SW, Washington, DC 20250-3700 Mail Stop 0601, via telephone at 202-720-6350.

SUPPLEMENTARY INFORMATION: In accordance with the Paperwork Reduction Act of 1995 (44 U.S.C. Chapter 3506(C)(2)(A)), this notice announces the intention of The Office of Partnerships and Public Engagement to request comments concerning the USDA Generic Clearance for Fellowships, Scholarships, Internships, and Training information collection request.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All comments received will be available for public inspection during regular business hours at the same address.

All responses to this notice will be summarized and included in the request for OMB approval. All comments, including any personal information contained therein, will become a matter of public record.

Agency: USDA Office of Partnerships and Public Engagement.

Proposed Collection Title: Generic Clearance for Application Information and Follow-up Information for Fellowships, Scholarships, Internships, and Training Programs.

OMB Number: 0503-New.

Expiration Date of Approval: Three years from approval date.

Type of Request: New generic information collection.

Abstract: OPPE coordinates outreach activities, including fellowship programs, scholarship programs, internship programs, and new initiatives that the Secretary of Agriculture deems appropriate on behalf of the Department's agencies, offices, divisions, and units (7 U.S.C. 6934(c)). OPPE collects application information to effectively coordinate selection and placement for agency fellowship, scholarship, internship, and training programs. In addition, OPPE collects feedback from participants upon completion of their respective programs. This generic collection will enable USDA to streamline application processes and collect participant feedback in an efficient, timely manner, in accordance with the Administration's commitment to providing career pathways to Federal positions.

Affected Public: Individuals.

Estimated Number of Respondents: 50,000.

Frequency: Biannual, Annual.

Total Estimated Annual Responses: 45,000.

Estimated Average Time per Response: 1.7 hours.

Estimated Total Annual Burden Hours: 30,833.

Total Estimated Annual Other Cost Burden: $0.

The respondents of this information collection will incur no costs other than the investment of their time.

Anton X. Malkowski,
Chief of Staff, USDA Office of Partnerships and Public Engagement.

[FR Doc. 2024-08724 Filed 4-23-24; 8:45 am]

BILLING CODE 3412-88-P